DEPARTMENT OF COMMERCE

National Institute of Standards and Technology

[Docket No.: 991215338-9338-01]

RIN 0693ZA36

Intent To Terminate Selected NVLAP Services

AGENCY: National Institute of Standards and Technology (NIST), Commerce.

ACTION: Notice to terminate specific programs within the National Voluntary Laboratory Accreditation Program (NVLAP).

SUMMARY: Under the NVLAP Procedures the Director of NIST, as delegated to the Chief of NVLAP, may terminate a specific laboratory accreditation program (LAP) when it is determined that a need no longer exists to accredit laboratories for the services covered under the scope of the LAP.

The National Institute of Standards and Technology (NIST) requests written comments on the proposed termination of the Protocols Program offered by NVLAP, and announces a 60-day comment period for that purpose. The Protocols Program is comprised of the Government Open Systems Interconnection Profile (GOSIP) and Portable Operating Systems Interface (POSIX) areas of testing.

Persons interested in commenting on the proposed termination should submit their comments in writing to the address below.

DATE: Comments on the proposed termination must be received no later than March 20, 2000.

ADDRESSES: Comments on the proposed terminations must be submitted to: Chief, National Voluntary Laboratory Accreditation Program, National Institute of Standards and Technology, 100 Bureau Drive, Stop 2140, Gaithersburg, MD 20899-2140, telephone number: (301) 975-4016, e-mail: nvlap@nist.gov.

FOR FURTHER INFORMATION CONTACT: Chief, National Voluntary Laboratory Accreditation Program, (301) 975-4016.

SUPPLEMENTARY INFORMATION: The National Institute of Standards and Technology administers the National Voluntary Laboratory Accreditation Program under regulations as found in Part 285 of Title 15 of the Code of Federal Regulations. NVLAP provides an unbiased third party evaluation and recognition of laboratory performance, as well as expert technical assistance to upgrade that performance, by accrediting calibration and testing laboratories found competent to perform specific tests or calibrations.

NVLAP is comprised of a set of Laboratory Accreditation Programs (LAPS) which are established on the basis of requests and demonstrated need. Each LAP includes specific test and/or calibration standards and related methods and protocols assembled to satisfy the unique needs for accreditation in a field of testing, field of calibration, product, or service.

Under the NVLAP Procedures the Director of NIST, as delegated to the Chief of NVLAP, may terminate a specific laboratory accreditation program (LAP) when it is determined that a need no longer exists to accredit laboratories for the services covered under the scope of the LAP. A review of all NVLAP programs revealed that the Protocols Program offered by NVLAP no longer has any participating laboratories, thus making its continuance impractical and financially nonviable. The Protocols Program is comprised of the GOSIP and POSIX areas of testing. Therefore, the Chief of NVLAP has determined that there no longer exists a need to continue this LAP.

After the comment period, the Chief of NVLAP shall determine if there is public support for the continuation of the LAP. If public comments support the continuation of the LAP, the Chief of NVLAP shall publish a Federal Register Notice announcing its continuation. If public support does not exist for continuation, the LAP will be terminated effective 90 days after the date of this notice of intent to terminate the LAP. If the LAP is terminated, NVLAP shall not longer grant or renew accreditations under the terminated program following the effective date of termination.

Copies of comments received will be available for inspection and copying at the Department of Commerce Central Reference and Records Facility, Room 6204, Hoover Building, Washington, DC 20230.

Dated: January 11, 2000.
Karen H. Brown,
Deputy Director.

[FR Doc. 00-1298 Filed 1-19-00; 8:45 am]

BILLING CODE 3510-13-M